DEPARTMENT OF LABOR

Employment and Training Administration

[TA-W-51,480]

Chorum Technologies, L.P., Richardson, TX; Notice of Termination of Investigation

Pursuant to section 221 of the Trade Act of 1974, as amended, an investigation was initiated on April 11, 2003 in response to a petition filed by a company official on behalf of workers at Chorum Technologies, L.P., Richardson, Texas.

The petitioner has requested that the petition be withdrawn. Consequently, further investigation would serve no purpose and the investigation has been terminated.

Signed at Washington, DC, this 29th day of April, 2003.
Linda G. Poole,
Certifying Officer, Division of Trade Adjustment Assistance.

[FR Doc. 03-11555 Filed 5-8-03; 8:45 am]

BILLING CODE 4510-30-P